DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations.

Time and Date: 9 a.m. to 5 p.m., September 27, 2002.

Place: The Adams Mark Hotel, 1550 Court Place, Denver, Colorado 80202-5107, Phone: (303) 893-3333.

Status: Open.

Purpose: The Subcommittee on Populations, NCVHS, is holding a hearing to discuss issues relating to statistics for the determination of health disparities in racial and ethnic populations. The focus will be on issues related to the collection and use of data on race and ethnicity for American Indian/Alaska Native populations. Invited panelists will address methodologies issues (e.g., misclassification, small area analysis, confidentiality concerns) on the collection of data on race and ethnicity, use of mixed race data, measurement of ethnic identity and perspectives on variables beyond race and ethnicity needed to determined health disparities in racial and ethnic groups.

Contact Person for More Information: Additional information about this meeting as well as summaries of past meetings and a roster of committee members may be obtained from Audrey L. Burwell, Office of Minority Health, 5600 Fishers Lane, Rockwall II Building, Suite 100, Rockville, Maryland 20857, telephone: (301) 443-1129, fax (301) 443-8280, e-mail alburwell@osophs.dhhs.gov; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhhs.gov/ where an agenda and more details about participation in the meeting or Subcommittee deliberations will be posted when available.

Dated: August 27, 2002.
James Scanlon,
Director, Division of Data Policy, Office of the Assistant Secretary for Planning and Evaluation.

[FR Doc. 02-23109 Filed 9-11-02; 8:45 am]

BILLING CODE 4151-05-M